DEPARTMENT OF THE INTERIOR

Fish and Wildlife Service

50 CFR Parts 21 and 22

Migratory Bird Permits; Draft Environmental Assessment on Take of Raptors From the Wild for Falconry and Raptor Propagation; Extension of Public Comment Period

AGENCY: Fish and Wildlife Service, Interior.

ACTION: Notice of availability; extension of comment period.

SUMMARY: We, the U.S. Fish and Wildlife Service (the Service), are extending the comment for the draft Environmental Assessment (DEA) on take of raptors from the wild for falconry and for captive propagation. Comments on the DEA previously submitted need not be resubmitted, because they have been incorporated into the public record and will be fully considered in the revisions of the DEA.

DATES: The public comment period is extended to November 21, 2006. Any comments received after the closing date may not be considered in the final guidelines.

ADDRESSES: You may pick up a copy of the DEA at, or hand-deliver your comments to the Division of Migratory Bird Management, U.S. Fish and Wildlife Service, 4401 North Fairfax Drive, Mail Stop 4107, Arlington, Virginia 22203-1610. The DEA also is available on the Division of Migratory Bird Management Web site at http://www.fws.gov/migratorybirds/.

FOR FURTHER INFORMATION CONTACT: Dr. George T. Allen, Division of Migratory Bird Management, U.S. Fish and Wildlife Service, at 703-358-1714.

SUPPLEMENTARY INFORMATION: We published a Notice of Availability of the DEA on June 21, 2006, with a 90-day comment period, set to end on September 19, 2006 (71 FR 35599). We received a request for a 60-day extension of the comment period from the Central Flyway Council (CFC), and are now extending the comment period as requested, to allow the CFC additional time to review the DEA.

Kenneth Stansell,
Acting Director, Fish and Wildlife Service.

[FR Doc. 06-7771 Filed 9-18-06; 8:45 am]

BILLING CODE 4310-55-P